DEPARTMENT OF COMMERCE

International Trade Administration

A-570-849

Certain Cut-to-Length Carbon Steel Plate from the People's Republic of China: Extension of Time Limits for Preliminary Results of New Shipper Review

AGENCY: Import Administration, International Trade Administration, Department of Commerce.

EFFECTIVE DATE: June 25, 2008.

FOR FURTHER INFORMATION CONTACT: Demitrios Kalogeropoulos, AD/CVD Operations, Office 8, Import Administration, International Trade Administration, U.S. Department of Commerce, 14th Street and Constitution Avenue, NW, Washington, DC 20230, telephone: (202) 482-2623.

Background

On January 11, 2008, the Department of Commerce (“Department”) initiated the new shipper review of the antidumping duty order on cut-to-length carbon steel plate from the People's Republic of China with respect to Hunan Valin Xiangtan Iron & Steel Co., Ltd., covering the period November 1, 2006, through October 31, 2007. See Certain Cut-to-Length Carbon Steel Plate From the People's Republic of China; Initiation of New Shipper Review, 73 FR 3236 (January 17, 2008). The preliminary results of this new shipper review are currently due no later than July 9, 2008.

Extension of Time Limit of Preliminary Results

Section 751(a)(2)(B)(iv) of the Tariff Act of 1930, as amended (“the Act”), requires that the Department issue preliminary results of a new shipper review of an antidumping duty order within 180 days after the day on which the review was initiated. See also 19 CFR 351.214(i)(1). The Act further provides that the Department may extend that 180-day period to 300 days if it determines that the case is extraordinarily complicated. See 19 CFR 351.214(i)(2).

The Department determines that this new shipper review involves complicated methodological issues and the examination of importer information. Therefore, in accordance with section 751(a)(2)(B)(iv) of the Act and 19 CFR 351.214(i)(2), the Department is extending the time period for these preliminary results to 300 days, until no later than November 6, 2008. The final results continue to be due 90 days after the publication of the preliminary results.

This notice is issued and published pursuant to section 751(a)(2)(B)(iv) and 777(i) of the Act.

Dated: June 18, 2008.
Stephen J. Claeys,
Deputy Assistant Secretary for Import Administration.

[FR Doc. E8-14407 Filed 6-24-08; 8:45 am]

BILLING CODE 3510-DS-S